Title 3—

The President

Proclamation 8246 of April 25, 2008

Malaria Awareness Day, 2008

By the President of the United States of America

A Proclamation

On Malaria Awareness Day, our Nation recognizes all who suffer from this devastating disease, and we remember the lives lost to an illness that is entirely preventable and treatable. Today, we renew our commitment to lead the world toward the urgent goal and noble mission of turning the tide against malaria in Africa and around the world.

My Administration and our partners are working together to save lives in Africa through the President's Malaria Initiative. On a recent trip to Africa, First Lady Laura Bush and I personally saw this Initiative working and making incredible progress against malaria. By distributing insecticide-treated bed nets, expanding indoor insecticide spraying, providing cutting-edge drugs to those in need, and empowering African leaders to determine the best strategy for their country, we have brought an extraordinary achievement within reach: together, we can eradicate a disease that has claimed the lives of children for centuries. Millions of lives are being saved because of the kindness and generosity of the American people, and we will continue to work to ensure that our aggressive and comprehensive strategy achieves its goal.

America is a compassionate country that feeds the hungry and protects the vulnerable because we believe every human life has inherent dignity and matchless value. As the people of Africa continue their struggle against malaria, we offer our support and steadfast commitment. We call on all nations to join us in a great humanitarian effort.

NOW, THEREFORE, I, GEORGE W. BUSH, President of the United States of America, by virtue of the authority vested in me by the Constitution and laws of the United States, do hereby proclaim April 25, 2008, as Malaria Awareness Day. I encourage Americans to answer the universal call to love a neighbor and join in our goal of eliminating malaria on the African continent and elsewhere.

IN WITNESS WHEREOF, I have hereunto set my hand this twenty-fifth day of April, in the year of our Lord two thousand eight, and of the Independence of the United States of America the two hundred and thirty-second.

[FR Doc. 08-1199

Filed 4-28-08; 8:45 am]

Billing code 3195-01-P